DEPARTMENT OF VETERANS AFFAIRS

[OMB Control No. 2900-0524]

Proposed Information Collection Activity: Proposed Collection; Comment Request

AGENCY: Office of Policy, Planning and Preparedness, Department of Veterans Affairs.

ACTION: Notice.

SUMMARY: The Office of Policy, Planning and Preparedness (OPP&P), Department of Veterans Affairs (VA), is announcing an opportunity for public comment on the proposed collection of certain information by the agency. Under the Paperwork Reduction Act (PRA) of 1995, Federal agencies are required to publish notice in the Federal Register concerning each proposed collection of information, including each proposed extension of a currently approved collection of information, and allow 60 days for public comment in response to the notice. This notice solicits comments on information needed to determine an applicant's qualification and suitability as a VA police officer.

DATES: Written comments and recommendations on the proposed collection of information should be received on or before October 23, 2006.

ADDRESSES: Submit written comments on the collection of information to Christopher Price, Office of Policy, Planning and Preparedness (07A), Department of Veterans Affairs, 4300 West 7th Street, Little Rock, AR 72205 or e-mail Christopher.Price@va.gov. Please refer to “OMB Control No. 2900-0524” in any correspondence.

FOR FURTHER INFORMATION CONTACT: Christopher Price at (501) 257-4160.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, the Office of Policy, Planning and Preparedness invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: VA Police Officer Pre-Employment Screening Checklist.

OMB Control Number: 2900-0524.

Type of Review: Extension of a currently approved collection.

Abstract: VA personnel use the form to document pre-employment history and conduct background checks on applicants seeking employment as VA police officers. VA will use the data collected to determine the applicant's qualification and suitability to be hire as a VA police officer.

Affected Public: State, Local, or Tribal Government.

Estimated Total Annual Burden: 250 hours.

Estimated Average Burden Per Respondent: 10 minutes.

Frequency of Response: One-time.

Estimated Number of Respondents: 1,500.

Dated: August 10, 2006.
By direction of the Secretary.
Denise McLamb,
Program Analyst, Records Management Service.

[FR Doc. E6-13914 Filed 8-21-06; 8:45 am]

BILLING CODE 8320-01-P